DEPARTMENT OF COMMERCE

National Oceanic and Atmospheric Administration

Agency Information Collection Activities; Submission to the Office of Management and Budget (OMB) for Review and Approval; Comment Request; Tuna Tracking and Verification Program

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before July 21, 2025.

ADDRESSES: Interested persons are invited to submit written comments to Adrienne Thomas, NOAA PRA Officer, at NOAA.PRA@noaa.gov. Please reference OMB Control Number 0648-0335 in the subject line of your comments. All comments received are part of the public record and will generally be posted on https://www.regulations.gov without change. Do not submit Confidential Business Information or otherwise sensitive or protected information.

FOR FURTHER INFORMATION CONTACT: Requests for additional information or specific questions related to collection activities should be directed to William Stahnke, National Marine Fisheries Service (NMFS), Office of International Affairs, Trade, and Commerce (IATC), 501 West Ocean Boulevard, Suite 1200, Long Beach, CA 90802, (562) 980-4088 or william.stahnke@noaa.gov.

SUPPLEMENTARY INFORMATION:

I. Abstract

This request is for the revision and extension of OMB Control Number: 0648-0335, sponsored by the National Oceanic and Atmospheric Administration's (NOAA's) National Marine Fisheries Service (NMFS) Office of International Affairs, Trade, and Commerce (IATC). This collection is being revised to transfer five (5) information collections currently included under OMB Control Number: 0648-0387, which is sponsored by the NMFS West Coast Region (WCR), to Control Number 0648-0335 to more accurately reflect how the information is actually being managed. All information collections referenced will be renewed under 0648-0335 going forward. There are no substantive changes to the information collection under 0648-0335 or those being brought over from 0648-0387. The five collections of information from 0648-0387 will be removed from that collection at the next renewal.

The information collected under 0648-0335, required by the International Dolphin Conservation Program Act (IDCPA), amendment to the Marine Mammal Protection Act (MMPA) (16 U.S.C. 1361 et seq.), is needed to: (1) document the dolphin-safe status of tuna import shipments; (2) verify that import shipments of fish were not harvested by large-scale, high seas driftnets; and (3) verify that tuna was not harvested by an embargoed nation or one that is otherwise prohibited from exporting tuna to the United States. Collected information includes the U.S. Customs and Border Protection (CBP) Entry Identification, date of entry, and contact details on the exporting and importing companies. It also includes harvest characteristics such as fishing vessel name, fishing trip dates, vessel flag, vessel gear type, and ocean area of harvest, as well as the declaration of the dolphin safe status of the shipment, and if applicable, the attachment of required certifications. Forms are submitted by importers and processors. NMFS uses this information to verify the dolphin-safe status of tuna shipments.

The five information collections from 0648-0387 being merged into 0648-0335 are required by the IDCPA (16 U.S.C. 1414), which amended the Dolphin Protection Consumer Information Act (DPCIA) (16 U.S.C. 1385). The IDCPA and the DPCIA, inter alia, authorize the Secretary of Commerce to promulgate regulations that implement the dolphin-safe labeling standard in the United States by the collection of documents on the dolphin-safe status of tuna import shipments and domestic tuna product processing; by (1) allowing documentary requests to allow for an effective tracking and verification program; and (2) by verifying that tuna was not harvested by a nation under embargo or otherwise prohibited from exporting tuna to the United States. This collection includes vessel arrival notifications, tuna tracking forms, tuna product receiving and processing reports, and documents/certifications that provide information on vessel characteristics and operations in the ETP, the origin of tuna and tuna products, and chain of custody recordkeeping requirements. At this time we would also like to revise the IC Title from “Fisheries Certificate of Origin” to “Tuna Tracking and Verification Program”. As we make the necessary revisions to 0648-0335, it is imperative to amend the name to be more reflective of the broader information collections under our program and respected OMB control number.

II. Method of Collection

For the existing information collection under OMB Control Number 0648-0335, importing respondents are required to submit the form electronically to the CBP before or at the time of importation via the Automated Commercial Environment (ACE), as per regulations at 50 CFR 216.24(f)(2). Domestic processors typically submit the forms monthly via email, as per regulations at 50 CFR 216.93(d)(2).

There are no U.S. forms/templates for the information collections being brought over from OMB Control Number 0648-0387. The information will be collected electronically through email or other secure transmission platforms as appropriate. Implementing regulations are found at 50 CFR 216.91 and 50 CFR 216.93.

III. Data

OMB Control Number: 0648-0335.

Form Number(s): NOAA Form 370.

Type of Review: Regular submission (Revision and extension of a current information collection).

Affected Public: Business or other for-profit organizations.

Estimated Number of Respondents: 540.

Estimated Time per Response: Fisheries Certificate of Origin: 25 minutes; Vessel Arrival Notification and Monthly Tuna Storage Removal Report: 10 minutes each; Tuna Tracking Form and Monthly Tuna Receiving Reports: 60 minutes each; Chain of Custody Report: 30 minutes.

Estimated Total Annual Burden Hours: 5,993.

Estimated Total Annual Cost to Public: $0.

Respondent's Obligation: Mandatory.

Legal Authority: Marine Mammal Protection Act (16 U.S.C. 1361 et seq.); the Dolphin Protection Consumer Information Act (16 U.S.C. 1385), and the International Dolphin Conservation Program Act (16 U.S.C. 1414).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-09084 Filed 5-20-25; 8:45 am]

BILLING CODE 3510-22-P